DEPARTMENT OF COMMERCE

International Trade Administration

[A-570-815, A-533-806, C-533-807]

Sulfanilic Acid From India and the People's Republic of China: Continuation of Antidumping Duty and Countervailing Duty Orders

AGENCY: Enforcement and Compliance, International Trade Administration, Department of Commerce.

SUMMARY: As a result of determinations by the Department of Commerce (Department) and the International Trade Commission (ITC) that revocation of the antidumping duty (AD) orders on sulfanilic acid from the People's Republic of China (PRC) and India and the countervailing duty (CVD) order on sulfanilic acid from India would likely lead to continuation or recurrence of dumping and a countervailable subsidy and material injury to an industry in the United States, the Department is publishing this notice of continuation of these AD and CVD orders.

DATES: Effective May 9, 2017.

FOR FURTHER INFORMATION CONTACT: Mandy Mallott (India and PRC AD Orders), John Conniff (India CVD Order), AD/CVD Operations, Office III, Enforcement and Compliance International Trade Administration, U.S. Department of Commerce, 1401 Constitution Avenue NW., Washington, DC 20230; telephone: (202) 482-6430 or (202) 482-1009, respectively.

SUPPLEMENTARY INFORMATION: On September 1, 2016, the Department initiated the fourth sunset reviews of the AD orders on sulfanilic acid from the PRC and India and the CVD order on sulfanilic acid from India pursuant to section 751(c) of the Tariff Act of 1930, as amended (Act).¹

¹ See Initiation of Five-Year (“Sunset”) Reviews, 81 FR 60386 (September 1, 2016) (“Notice of Initiation”).

As a result of its reviews, pursuant to sections 751(c) and 752(b) of the Act, the Department determined that revocation of the AD orders on sulfanilic acid from India and the PRC and the CVD order on sulfanilic acid from India would be likely to lead to a continuation or recurrence of dumping and a countervailable subsidy, and, therefore, notified the ITC of the magnitude of the margins and net countervailable subsidy likely to prevail should the orders be revoked.²

² See Sulfanilic Acid from India and the People's Republic of China: Final Results of Expedited Fourth Sunset Reviews of Antidumping Duty Orders, 82 FR 1321 (January 5, 2017); Sulfanilic Acid From India: Final Results of Expedited Sunset Review of the Countervailing Duty Order, 82 FR 1693 (January 6, 2017).

On April 21, 2017, the ITC published its determination, pursuant to section 751(c) of the Act, that revocation of the existing AD orders on sulfanilic acid from India and the PRC and the CVD order on sulfanilic acid from India would be likely to lead to a continuation or recurrence of material injury to an industry in the United States within a reasonably foreseeable time.³

³ See USITC Publication USITC Publication 4680, April 2017, Sulfanilic Acid from China and India: Inv. Nos. 701-TA-318 and 731-TA-538 and 561 (Fourth Review). See also Sulfanilic Acid from China and India, 82 FR 18776 (April 21, 2017).

Scope of the Orders

The merchandise covered by the AD and CVD orders is all grades of sulfanilic acid, which include technical (or crude) sulfanilic acid, refined (or purified) sulfanilic acid and sodium salt of sulfanilic acid.

Sulfanilic acid is a synthetic organic chemical produced from the direct sulfonation of aniline with sulfuric acid. Sulfanilic acid is used as a raw material in the production of optical brighteners, food colors, specialty dyes, and concrete additives. The principal differences between the grades are the undesirable quantities of residual aniline and alkali insoluble materials present in the sulfanilic acid. All grades are available as dry, free flowing powders.

Technical sulfanilic acid, classifiable under the subheading 2921.42.22 of the Harmonized Tariff Schedule (HTS), contains 96 percent minimum sulfanilic acid, 1.0 percent maximum aniline, and 1.0 percent maximum alkali insoluble materials. Refined sulfanilic acid, also classifiable under the subheading 2921.42.22 of the HTS, contains 98 percent minimum sulfanilic acid, 0.5 percent maximum aniline and 0.25 percent maximum alkali insoluble materials.

Sodium salt (sodium sulfanilate), classifiable under the HTS subheading 2921.42.90, is a powder, granular or crystalline material which contains 75 percent minimum equivalent sulfanilic acid, 0.5 percent maximum aniline based on the equivalent sulfanilic acid content, and 0.25 percent maximum alkali insoluble materials based on the equivalent sulfanilic acid content.

Although the HTS subheadings are provided for convenience and customs purposes, our written description of the scope of these orders is dispositive.⁴

⁴ In response to a request from 3V Corporation, on May 5, 1999, the Department clarified that sodium sulfanilate processed in Italy from sulfanilic acid produced in India is within the scope of the AD and CVD orders on sulfanilic acid from India. See Notice of Scope Rulings, 65 FR 41957 (July 7, 2000).

Continuation of the Orders

As a result of the determinations by the Department and the ITC that revocation of the AD orders on sulfanilic acid from the PRC and India and the CVD order from India would be likely to lead to a continuation or recurrence of dumping and a countervailable subsidy and material injury to an industry in the United States, pursuant to section 751(d)(2) of the Act, the Department hereby orders the continuation of the AD orders on sulfanilic acid from the PRC and India, and the CVD order on sulfanilic acid from India. U.S. Customs and Border Protection will continue to collect cash deposits at the rates in effect at the time of entry for all imports of subject merchandise. The effective date of the continuation of the orders will be the date of publication in the Federal Register of this notice of continuation. Pursuant to section 751(c)(2) of the Act, the Department intends to initiate the next five-year review of the orders not later than 30 days prior to the fifth anniversary of the effective date of this continuation.

These five-year (sunset) reviews and this notice are in accordance with section 751(c) of the Act and published pursuant to section 777(i)(1) of the Act and 19 CFR 351.218(f)(4).

Dated: May 2, 2017.
Ronald K. Lorentzen,
Acting Assistant Secretary for Enforcement and Compliance.

[FR Doc. 2017-09302 Filed 5-8-17; 8:45 am]

BILLING CODE 3510-DS-P